NUCLEAR REGULATORY COMMISSION

[NRC-2016-0189]

RG 5.28, “Evaluation of Shipper-Receiver Differences in the Transfer of Special Nuclear Material,” Revision 0 RG 5.49, “Internal Transfers of Special Nuclear Material,” Revision 0 RG 5.57, “Shipping and Receiving Control of Strategic Special Nuclear Material,” Revision 1

AGENCY: Nuclear Regulatory Commission.

ACTION: Regulatory guide; withdrawal.

SUMMARY: The U.S. Nuclear Regulatory Commission (NRC) is withdrawing the following three regulatory guides (RGs): RG 5.28, “Evaluation of Shipper-Receiver Differences in the Transfer of Special Nuclear Material;” RG 5.49, “Internal Transfers of Special Nuclear Material;” and RG 5.57, “Shipping and Receiving Control of Strategic Special Nuclear Material.” These RGs are being withdrawn because the guidance has been incorporated into RG 5.41, “Shipping, Receiving, and Internal Transfer of Special Nuclear Material.”

DATES: The effective date of the withdrawal of RGs 5.28, 5.49, and 5.57 is May 31, 2017.

ADDRESSES: Please refer to Docket ID NRC-2016-0189 when contacting the NRC about the availability of information regarding this document. You may obtain publicly-available information related to this document using any of the following methods:

• Federal Rulemaking Web site: Go to http://www.regulations.gov and search for Docket ID NRC-2016-0189. Address questions about NRC dockets to Carol Gallagher; telephone: 301-415-3463; email: Carol.Gallagher@nrc.gov. For technical questions, contact the individuals listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it available in ADAMS) is provided the first time that a document is referenced. The basis for withdrawal of RGs 5.28, 5.49, and 5.57 is available in ADAMS under Accession No(s). ML17055B973, ML17055B974, and ML17055B968, respectively.

• NRC's PDR: You may examine and purchase copies of public documents at the NRC's PDR, Room O1-F21, One White Flint North, 11555 Rockville Pike, Rockville, Maryland 20852.

FOR FURTHER INFORMATION CONTACT: Glenn Tuttle, Office of Nuclear Material Safety and Safeguards, telephone: 301-415-7230, email: Glenn.Tuttle@nrc.gov, and Mekonen Bayssie, Office of Research, telephone: 301-415-1699, email: Mekonen.Bayssie@nrc.gov. Both are staff of the U.S. Nuclear Regulatory Commission, Washington, DC 20555-0001.

SUPPLEMENTARY INFORMATION: The NRC is withdrawing RGs 5.28, 5.49, and 5.57 because this guidance has been incorporated into RG 5.41, “Shipping, Receiving, and Internal Transfer of Special Nuclear Material,” (ADAMS Accession No. ML16348A213) and RGs 5.28, 5.49, and 5.57 are therefore no longer needed. These three RGs were issued by the NRC staff in the 1970s to 1980s to provide guidance that was considered acceptable for complying with the NRC's regulations related to the shipment, receipt, and transfer of special nuclear materials. RG 5.41 is being issued to update the guidance that is being withdrawn. A notice issuing RG 5.41 has been published in this issue of the Federal Register (see Docket ID NRC-2016-0189).

The withdrawal of RGs 5.28, 5.49, and 5.57 does not alter any prior or existing NRC licensing approval or the acceptability of licensee commitments made regarding the withdrawn guidance. Although RGs 5.28, 5.49, and 5.57 are withdrawn, current licensees referencing these RGs may continue to do so, and withdrawal does not affect any existing licenses or agreements. However, by withdrawing RGs 5.28, 5.49, and 5.57, the NRC no longer approves reliance upon such guidance in future requests or applications for NRC licensing actions.

Dated at Rockville, Maryland, this 25th day of May 2017.
For the Nuclear Regulatory Commission.
Thomas H. Boyce,
Chief, Regulatory Guidance and Generic Issues Branch, Division of Engineering, Office of Nuclear Regulatory Research.

[FR Doc. 2017-11225 Filed 5-30-17; 8:45 am]

BILLING CODE 7590-01-P